DEPARTMENT OF TRANSPORTATION

Federal Aviation Administration

14 CFR Part 39

[Docket No. 2001-CE-47-AD; Amendment 39-12709; AD 2002-08-02]

RIN 2120-AA64

Airworthiness Directives; Fairchild Aircraft, Inc. Models SA226 and SA227 Series Airplanes

AGENCY: Federal Aviation Administration, DOT.

ACTION: Final rule.

SUMMARY: This amendment supersedes Airworthiness Directive (AD) 2001-20-14, which currently requires you to replace the brake shuttle valves with parts of improved design and install a shield over the hydraulic lines on certain Fairchild Aircraft SA226 and SA227 series airplanes. AD 2001-20-14 also requires you to replace the rubber fuel hose with a metal device for certain SA226 series airplanes. This AD is the result of FAA incorrectly referencing Model SA226—T(A) airplanes and inadvertently omitting certain serial numbers of Model SA227—AC airplanes from the applicability of AD 2001-20-14. This AD retains the actions of AD 2001-20-14, corrects the reference of Model SA226—T(A) airplanes and adds additional Model SA227—AC airplanes to the applicability section of the AD. The actions specified by this AD are intended to correct potential brake shuttle valve problems, which could cause the brake assembly to drag and overheat. Hydraulic or fuel line damage could then occur if the overheated brake assembly is retracted into the main wheel well with a consequent fire if the hydraulic or fuel lines ruptured.

DATES: This AD becomes effective on June 6, 2002.

The Director of the Federal Register previously approved the incorporation by reference of certain publications listed in the regulations as of November 21, 2001 (66 FR 52020, October 12, 2001).

ADDRESSES: You may get the service information referenced in this AD from Fairchild Aircraft, Inc., P.O. Box 790490, San Antonio, Texas 78279-0490; telephone: (210) 824-9421; facsimile: (210) 820-8609. You may view this information at the Federal Aviation Administration (FAA), Central Region, Office of the Regional Counsel, Attention: Rules Docket No. 2001-CE-47-AD, 901 Locust, Room 506, Kansas City, Missouri 64106; or at the Office of the Federal Register, 800 North Capitol Street, NW., suite 700, Washington, DC.

FOR FURTHER INFORMATION CONTACT: Werner Koch, Aerospace Engineer, FAA, Airplane Certification Office, 2601 Meacham Boulevard, Fort Worth, Texas 76193-0150; telephone: (817) 222-5133; facsimile: (817) 222-5960.

SUPPLEMENTARY INFORMATION:

Discussion

What Events Have Caused This AD?

The FAA received a report of an accident involving a Fairchild Model SA226—TC airplane where the flight crew lost control of the airplane at low altitude during the final approach for landing. Prior to the accident, the flight crew reported a loss of hydraulic pressure and a fire on the left side of the airplane. The report of this accident caused us to issue AD 2001-20-14, Amendment 39-12462 (66 FR 52020, October 12, 2001). This AD requires the following on certain Fairchild Aircraft SA226 and SA227 series airplanes:

—Replace the brake shuttle valves with parts of improved design (except on airplanes with an anti-skid/power brake system);

—Install a shield over the hydraulic lines; and

—Replace the rubber fuel hose with a metal device on certain SA226 series airplanes.

What Has Happened Since AD 2001-20-14 To Initiate This Action?

The FAA incorrectly referenced Model SA226—T(A) airplanes and inadvertently omitted certain serial numbers of Model SA227—AC airplanes from the applicability of AD 2001-20-14. In particular, we referenced serial numbers T(A)249 through T(A)291 as Model SA226—T(A) airplanes. These serial numbers should be T249 through T291, except T276, as Model SA226—T airplanes. We also restricted the applicability of Model SA227—AC airplanes to serial numbers AC406, AC415, AC416, and AC420 through AC599. Any Model SA227—AC airplane incorporating a serial number from AC600 through AC789 should also be affected by the actions of AD 2001-20-14.

What Is the Potential Impact if FAA Took No Action?

Original design brake shuttle valves, if not replaced with improved design valves, could cause the wheel brakes to drag and overheat. This could result in hydraulic or fuel line damage if the overheated brake assembly is retracted into the main wheel wells. A consequent fire could occur if the hydraulic or fuel lines ruptured.

Has FAA Taken Any Action to This Point?

We issued a proposal to amend part 39 of the Federal Aviation Regulations (14 CFR part 39) to include an AD that would apply to certain Fairchild Aircraft SA226 and SA227 series airplanes. This proposal was published in the Federal Register as a notice of proposed rulemaking (NPRM) on December 27, 2001 (66 FR 66828). The NPRM proposed to supersede AD 2001-20-14 with a new AD that would retain the actions of AD 2001-20-14, would correct the reference to Model SA226—T(A) airplanes, and would include additional Model SA227—AC airplanes in the Applicability section of the AD.

Was the Public Invited To Comment?

The FAA encouraged interested persons to participate in the making of this amendment. We did not receive any comments on the proposed rule or on our determination of the cost to the public.

FAA's Determination

What Is FAA's Final Determination on This Issue?

After careful review of all available information related to the subject presented above, we have determined that air safety and the public interest require the adoption of the rule as proposed except for minor editorial corrections. We have determined that these minor corrections:

—Provide the intent that was proposed in the NPRM for correcting the unsafe condition; and

—Do not add any additional burden upon the public than was already proposed in the NPRM.

Cost Impact

How Many Airplanes Does This AD Impact?

We estimate that this AD affects 186 SA226 Series airplanes and 72 SA227 Series airplanes in the U.S. registry for total of 258 affected airplanes.

What Is the Cost Impact of This AD on Owners/Operators of the Affected Airplanes?

We estimate the following costs to accomplish the replacement and installation:

SA226 Series Airplanes
Labor cost | Parts cost | Total cost per airplane | Total cost on U.S. operators
65 workhours × $60 per hour = $3,900. | $3,431 | $7,331 | $7,331 × 186 = $1,363,566

SA227 Series Airplanes
Labor cost | Parts cost | Total cost per airplane | Total cost on U.S. operators
55 workhours × $60 per hour = $3,300 | $1,369 | $4,669 | $4,669 × 72 = $336,168

The only difference between AD 2001-20-14 and this AD is the expanded applicability of Model SA227-AC airplanes that we inadvertently omitted from the “Applicability” section of AD 2001-20-14. However, the estimated number of total airplanes affected has not changed. The only impact this AD will have over that already required by AD 2001-20-14 is the burden to the owners/operators of the cost of the actions on the additional airplanes.

Compliance Time of This AD

What Will Be the Compliance Time of This AD?

The compliance time of this AD is at whichever of the following that occurs later:

—Within 500 hours time-in-service (TIS) after the effective date of this AD or AD 2001-20-14, as applicable; or

—Within 6 months after the effective date of this AD or AD 2001-20-14, as applicable.

Why Is the Compliance Time of This AD Presented in Both Hours TIS and Calendar Time?

The affected airplanes are used in both general aviation and commuter operations. Those commuter operators may accumulate 500 hours TIS on the airplane in less than 2 months and many owners have numerous affected airplanes in their fleets. We have determined that the dual compliance time:

—Gives all owners/operators of the affected airplanes adequate time to schedule and accomplish the actions in this AD; and

—assures that the unsafe condition referenced in this AD will be corrected within a reasonable time period without inadvertently grounding any of the affected airplanes.

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 2001-20-14, Amendment 39-12462 (66 FR 52020, October 12, 2001), and by adding a new AD to read as follows:

2002-08-02 Fairchild Aircraft, Inc.: Amendment 39-12709; Docket No. 2001-CE-47-AD; Supersedes AD 2001-20-14, Amendment 39-12462.

(a) What airplanes are affected by this AD? This AD affects the following airplane models and serial numbers that are certificated in any category:

(1) Group 1.—Fairchild Aircraft Inc. Airplanes Retained From AD 2001-20-14
Model | Serial Numbers
SA226-AT | AT001 through AT074.
SA226-T | T201 through T291, except T276.
SA226-T(B) | T(B) 276 and T(B) 292 through T(B) 417.
SA226-TC | TC201 through TC419.
SA227-AC | AC406, AC415, AC416, and AC420 through AC599.
SA227-AT | AT421, AT423 through AT631, and AT695.
SA227-TT | TT421 through TT555.
SA227-TT(300) | TT447, TT465, TT471, TT483, TT512, TT518, TT521, TT527, TT529, and 536.

(2) Group 2.—Fairchild Aircraft, Inc. Airplanes Added to the Applicability of this AD (not included in AD 2001-20-14)
Model | Serial Numbers
SA227-AC | AC600 through AC789

(b) Who must comply with this AD? Anyone who wishes to operate any of the airplanes identified in paragraph (a) of this AD must comply with this AD. This AD applies to any airplane identified in paragraph (a) of this AD with or without an anti-skid/power brake system installed.

(c) What problem does this AD address? The actions specified by this AD are intended to correct potential brake shuttle valve problems, which could cause the brake assembly to drag and overheat. Hydraulic or fuel line damage could then occur if the overheated brake assembly is retracted into the main wheel well, with a consequent fire if the hydraulic or fuel lines ruptured.

(d) What actions must I accomplish to address this problem for Group 1 airplanes? To address this problem for Group 1 airplanes, you must accomplish the following:

Actions | Compliance | Procedures
(1) For all affected airplanes, except those equipped with an anti-skid/power brake system, replace each brake shuttle valve with part number (P/N) MS28767-4 brake shuttle valve (or FAA-approved equivalent part number) | Within 500 hours time-in-service (TIS) after November 21, 2001 (the effective date of AD 2001-20-14), or within 6 months after or November 21, 2001 (the effective date of AD 2001-20-14), whichever occurs later, unless already accomplished | In accordance with the ACCOMPLISHMENT INSTRUCTIONS section of Fairchild Aircraft Service Bulletin No. 226-26-003 or Fairchild Aircraft Service Bulletin No. 227-26-002, as applicable. Effective pages, revision levels, and dates of the service bulletins are specified in paragraph (i) of number (P/N) this AD.
(2) For all affected airplanes, install a shield over the hydraulic lines | Within 500 hours time-in-service (TIS) after November 21, 2001 (the effective date of AD 2001-20-14), or within 6 months after November 21, 2001 (the effective date of AD 2001-20-14), whichever occurs later, unless already accomplished | In accordance with the ACCOMPLISHMENT INSTRUCTIONS section of Fairchild Aircraft Service Bulletin No. 226-26-003 or Fairchild Aircraft Service Bulletin No. 227-26-002, as applicable. Effective pages, revision levels, and dates of the service bulletins are specified in paragraph (i) of this AD.
(3) For all airplane models within the SA226 series, replace the rubber fuel hose with a metal device | Within 500 hours time-in-service (TIS) after November 21, 2001 (the effective date of AD 2001-20-14), or within 6 months after November 21, 2001 (the effective date of AD 2001-20-154), whichever occur later, unless already accomplished | In accordance with the ACCOMPLISHMENT INSTRUCTIONS section of Fairchild Aircraft Service Bulletin No. 226-26-SA226-003. Effective pages, revision levels, and dates of the service bulletin is specified in paragraph (i) of this AD.
(4) Do not install any brake shuttle value that is not a P/N MS28767-4 brake shuttle valve (or FAA-approved equivalent part number) or a fuel hose that is made out of rubber | As of November 21, 2001 (the effective date of AD 2001-20-14) | Not Applicable.

(e) What actions must I accomplish to address this problem for Group 2 airplanes? To address this problem for Group 2 airplanes, you must accomplish the following:

Actions | Compliance | Procedures
(1) For all affected airplanes except those equipped with an anti-skid/power brake system, replace each brake shuttle valve with part number (P/N) MS28767-4 brake shuttle valve (or FAA-approved equivalent part number) | Within 500 hours time-in-service (TIS) after June 6, 2002 (the effective date of this AD) or within 6 months after June 6, 2002 (the effective date of this AD), whichever occurs later, unless already accomplished | In accordance with the ACCOMPLISHMENT INSTRUCTIONS section of Fairchild Aircraft Service Bulletin No. 227-26-002. Effective pages, revision levels, and dates of the service bulletin is specified in paragraph (i) of this AD.
(2) For all affected airplanes, install a shield over the hydraulic lines | Within 500 hours time-in-service (TIS) after June 6, 2002 (the effective date of this AD) or within 6 months after June 6, 2002 (the effective date of this AD), whichever occurs later, unless already accomplished | In accordance with the ACCOMPLISHMENT INSTRUCTIONS section of Fairchild Aircraft Service Bulletin No. 227-26-002. Effective pages, revision levels, and dates of the service bulletin is specified in paragraph (i) of this AD.
(3) Do not install any brake shuttle valve that is not a P/N MS28767-4 brake shuttle valve (or FAA-approved equivalent part number) or a fuel hose that is made out of rubber | As of June 6, 2002 (the effective date of this AD) | Not Applicable.

(f) Can I comply with this AD in any other way?

(1) You may use an alternative method of compliance or adjust the compliance time if:

(i) Your alternative method of compliance provides an equivalent level of safety; and

(ii) The Manager, Fort Worth Airplane Certification Office (ACO), approves your alternative. Submit your request through an FAA Principal Maintenance Inspector, who may add comments and then send it to the Manager, Fort Worth ACO.

(2) Alternative methods of compliance approved in accordance with AD 2001-20-14, which is superseded by this AD, are approved as alternative methods of compliance with this AD.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (f) of this AD. The request should include an assessment of the effect of the modification, alteration, or repair on the unsafe condition addressed by this AD; and, if you have not eliminated the unsafe condition, specific actions you propose to address it.

(g) Where can I get information about any already-approved alternative methods of compliance? Contact Werner Koch, Aerospace Engineer, FAA, Airplane Certification Office, 2601 Meacham Boulevard, Fort Worth, Texas 76193-0150; telephone: (817) 222-5133; facsimile: (817) 222-5960.

(h) What if I need to fly the airplane to another location to comply with this AD? The FAA can issue a special flight permit under sections 21.197 and 21.199 of the Federal Aviation Regulations (14 CFR 21.197 and 21.199) to operate your airplane to a location where you can accomplish the requirements of this AD.

(i) Are any service bulletins incorporated into this AD by reference?

(1) Actions required by this AD must be done in accordance with the following:

(i) Fairchild Service Bulletin No. 226-26-003, which incorporates the following pages:

Pages | Date
16 | Issued: March 1, 2000.
14, 15 | Issued: March 1, 2000, Revised: June 27, 2000.
17 | Issued: March 1, 2000, Revised: October 2, 2000.
4, 5, 6, 7, 10, 11, 12, and 13 | Issued: March 1, 2000, Revised: January 19, 2001.
1, 2, 3, 8, and 9 | Issued: March 1, 2000, Revised: August 10, 2001.

and

(ii) Fairchild Service Bulletin No. 227-26-002, which incorporates the following pages:

Pages | Date
1, 2, 8, and 9 | Issued: March 1, 2000.
7 | Issued: March 1, 2000, Revised: June 27, 2000.
3, 4, 5, and 6 | Issued: March 1, 2000, Revised: October 2, 2000.

(2) The Director of the Federal Register previously approved this incorporation by reference under 5 U.S.C. 552(a) and 1 CFR part 51 as of November 21, 2001 (66 FR 52020, October 12, 2001).

(3) You may get copies from Fairchild Aircraft, Inc., P.O. Box 790490, San Antonio, Texas 78279-0490. You may view copies at the FAA, Central Region, Office of the Regional Counsel, 901 Locust, Room 506, Kansas City, Missouri, or at the Office of the Federal Register, 800 North Capitol Street, NW, suite 700, Washington, DC.

(j) Does this AD action affect any existing AD actions? This amendment supersedes AD 2001-20-14, Amendment 39-12462.

(k) When does this amendment become effective? This amendment becomes effective on June 6, 2002.

Issued in Kansas City, Missouri, on April 8, 2002.
James E. Jackson,
Acting Manager, Small Airplane Directorate, Aircraft Certification Service.

[FR Doc. 02-9574 Filed 4-18-02; 8:45 am]

BILLING CODE 4910-13-P